DEPARTMENT OF AGRICULTURE

Rural Housing Service

Rural Business-Cooperative Service

Rural Utilities Service

Farm Service Agency

Notice of Request for Extension of a Currently Approved Information Collection

AGENCIES: Rural Housing Service, Rural Business-Cooperative Service, Rural Utilities Service, Farm Service Agency, USDA.

ACTION: Proposed collection; comments requested.

SUMMARY: In accordance with the Paperwork Reduction Act of 1995, this notice announces the subject agencies' intention to request an extension for a currently approved information collection in support of the programs for 7 CFR part 1951, subpart C, “Offsets of Federal Payments to USDA Agency Borrowers.”

DATES: Comments on this notice must be received by March 13, 2001, to be assured of consideration.

FOR FURTHER INFORMATION CONTACT: Jerry P. Wishall, Senior Loan Officer, USDA, FSA, Farm Loan Programs, Loan Servicing Division, 1400 Independence Ave. SW., Washington, DC 20250-0523, telephone (202) 720-1651. Electronic mail: Jerry_Wishall@wdc.fsa.usda.gov.

SUPPLEMENTARY INFORMATION: Title: Offsets of Federal Payments to USDA Agency Borrowers.

OMB Number: 0575-0119.

Expiration Date of Approval: February 28, 2001.

Type of Request: Extension of a Currently Approved Information Collection.

Abstract: This regulation identifies documents to be submitted by borrowers to request a different repayment agreement when they are delinquent on their debt to the Federal Government. This regulation does not require a response if the borrower is willing to allow the program payment to be made directly to the Agency. The information is used to determine if a different repayment agreement can be accepted.

Estimate of Burden: Public reporting for this collection of information is estimated to average 1.4 hours per response.

Respondents: Individuals or households, businesses or other for profit and farms.

Estimated Number of Respondents: 18,300.

Estimated Number of Responses per Respondent: 1.

Estimated Number of Responses: 18,300.

Estimated Total Annual Burden on Respondents: 25,206.

Copies of this information collection can be obtained from Barbara Williams, Regulations and Paperwork Management Branch, Support Services Division at (202) 692-0045.

Comments

Comments are invited on: (a) Whether the proposed collection of information is necessary for the proper performance of the functions of the subject agencies, including whether the information will have practical utility; (b) the accuracy of the Agencies' estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Barbara Williams, Regulations and Paperwork Management Branch, Support Services Division, U.S. Department of Agriculture, Rural Development, STOP 0742, 1400 Independence Ave. SW., Washington, DC 20250. All responses to this notice will be summarized and included in the request for OMB approval. All comments will also become a matter of public record.

Dated: January 5, 2001.
Inga Smulkstys,
Acting Under Secretary for Rural Development.
Dated: January 5, 2001.
Thomas I. Grau,
Acting Under Secretary for Farm and Foreign Agricultural Services.

[FR Doc. 01-1109 Filed 1-11-01; 8:45 am]

BILLING CODE 3410-XT-U